Title 3—

The President

Proclamation 8299 of October 1, 2008

National Domestic Violence Awareness Month, 2008

By the President of the United States of America

A Proclamation

Our Nation has a moral obligation to work to prevent domestic violence and address its brutal and destructive effects. During National Domestic Violence Awareness Month, we underscore our commitment to helping individuals across our country who face such devastating violence.

My Administration remains dedicated to eradicating domestic violence and helping victims find the compassion, comfort, and healing they need. In 2003, I announced the creation of the Family Justice Center Initiative to help local communities provide comprehensive services at one location for victims of domestic violence. In 2006, I was proud to sign legislation that reauthorized the Violence Against Women Act to improve criminal justice responses to domestic violence, sexual assault, and stalking. The Department of Justice's Domestic Violence Transitional Housing Assistance Program also offers victims of violence counseling and transitional housing services so they can escape the cycle of abuse.

During this month, we rededicate ourselves to protecting vulnerable members of our society and ensuring domestic abusers are punished to the full extent of the law. We encourage victims of domestic violence and their families to seek assistance through Family Justice Centers and the National Domestic Violence Hotline at 1-800-799-SAFE. Together, we can help heal hearts and build a culture in which all Americans can pursue their dreams and realize the great promise of our Nation.

NOW, THEREFORE, I, GEORGE W. BUSH, President of the United States of America, by virtue of the authority vested in me by the Constitution and laws of the United States, do hereby proclaim October 2008, as National Domestic Violence Awareness Month. I urge all Americans to reach out to victims of domestic violence and take action to make ending domestic violence a national priority.

IN WITNESS WHEREOF, I have hereunto set my hand this first day of October, in the year of our Lord two thousand eight, and of the Independence of the United States of America the two hundred and thirty-third.

[FR Doc. E8-23730

Filed 10-3-08; 8:45 am]

Billing code 3195-W9-P